NATIONAL ARCHIVES AND RECORDS ADMINISTRATION

Information Security Oversight Office

[NARA-2017-035]

National Industrial Security Program Policy Advisory Committee (NISPPAC)

AGENCY: Information Security Oversight Office, National Archives and Records Administration (NARA).

ACTION: Notice of advisory committee meeting.

SUMMARY: In accordance with the Federal Advisory Committee Act and implementing regulations, we announce the following committee meeting.

DATES: The meeting will be on May 10, 2017, from 10:00 a.m. to 12:00 p.m. EST.

ADDRESSES: National Archives and Records Administration, 700 Pennsylvania Avenue NW., Archivist's Reception Room, Room 105, Washington, DC 20408.

FOR FURTHER INFORMATION CONTACT: Robert Tringali, Program Analyst, by mail at ISOO, National Archives and Records Administration, 700 Pennsylvania Avenue NW., Washington, DC 20408, by telephone at 202.357.5335, or by email at robert.tringali@nara.gov. Contact ISOO at ISOO@nara.gov and the NISPPAC at NISPPAC@nara.gov.

SUPPLEMENTARY INFORMATION: The purpose of this meeting is to discuss National Industrial Security Program policy matters. The meeting will be open to the public. However, due to space limitations and access procedures, you must submit to ISOO the name and telephone number of individuals planning to attend, no later than Friday, May 5, 2017. We will provide additional instructions for accessing the meeting's location.

Patrice Little Murray,
Committee Management Officer.

[FR Doc. 2017-06525 Filed 3-31-17; 8:45 am]

BILLING CODE 7515-01-P